DEPARTMENT OF COMMERCE

National Oceanic and Atmospheric Administration

[RTID 0648-XA456]

Endangered and Threatened Species; Take of Anadromous Fish

AGENCY: National Marine Fisheries Service (NMFS), National Oceanic and Atmospheric Administration (NOAA), Commerce.

ACTION: Notice of availability.

SUMMARY: Notice is hereby given that NMFS has prepared a final environmental assessment (EA) under the National Environmental Policy Act (NEPA) describing the potential effects of Stockton East Water District's (District) proposed Calaveras River Habitat Conservation Plan (HCP). The Calaveras River HCP was prepared and submitted by the District and describes their ongoing operations and monitoring activities in the Calaveras River.

ADDRESSES: The incidental take permit, final environmental assessment, and other related documents are available on the NMFS West Coast Region website at: https://www.fisheries.noaa.gov/action/calaveras-river-habitat-conservation-plan-and-environmental-assessment.

FOR FURTHER INFORMATION CONTACT: Monica Gutierrez, Sacramento, CA, at phone number: (916) 930-3657, via fax: (916) 930-3629, or via email: Monica.Gutierrez@noaa.gov.

SUPPLEMENTARY INFORMATION:

ESA-Listed Species Covered in This Notice

Chinook salmon (Oncorhynchus tshawytscha): winter-run Chinook salmon, spring-run Chinook salmon, and fall/late fall-run Chinook salmon.

California Central Valley (CCV) steelhead (O. mykiss).

Background

The District is seeking coverage under section 10(a)(1)(B) of the Endangered Species Act (ESA) for their ongoing operations and monitoring program in the lower Calaveras River in California's Central Valley. The Calaveras River, a tributary to the San Joaquin River, serves as an important source of water for fish, agriculture, and municipal uses in Calaveras and San Joaquin counties. The District manages the water resources within the Calaveras River during non-flood control periods for their respective constituents. The Calaveras River provides valuable habitat for CCV steelhead and Chinook salmon. The District's operations may result in impacts to listed species and their habitat within the Calaveras River. Therefore, the District is required to work collaboratively with NMFS to minimize these impacts through implementation of the HCP upon issuance of the Section 10(a)(1)(B) Permit.

On September 30, 2019, a notice of receipt was published in the Federal Register (84 FR 51518) that a request for a permit for the incidental take of winter-run Chinook salmon, spring-run Chinook salmon, fall/late fall-run Chinook salmon, and CCV steelhead associated with the activities as described in the Calaveras River HCP, had been submitted by the District. In addition, the draft EA was available for 45-day public comment period. NMFS received several comments and these comments were addressed as changes to the final EA or as a response in the final EA appendix. The requested permit has been issued under the authority of the Endangered Species Act of 1973. This permit authorizes the incidental take of listed species as set forth in the HCP and the permit for a 50-year period.

Authority

Section 9 of the ESA and Federal regulations prohibit the `taking' of a species listed as endangered or threatened. The ESA defines “take” to mean harass, harm, pursue, hunt, shoot, wound, kill, trap, capture, or collect, or to attempt to engage in any such conduct. NMFS may issue permits, under limited circumstances to take listed species incidental to, and not the purpose of, otherwise lawful activities. Section 10(a)(1)(B) of the ESA provides for authorizing incidental take of listed species. NMFS regulations governing permits for threatened and endangered species are promulgated at 50 CFR 222.307.

Dated: September 8, 2020.
Angela Somma,
Chief, Endangered Species Division, Office of Protected Resources, National Marine Fisheries Service.

[FR Doc. 2020-20111 Filed 9-11-20; 8:45 am]

BILLING CODE 3510-22-P